DEPARTMENT OF COMMERCE

National Oceanic and Atmospheric Administration

RIN 0648-XA153

Fisheries of the South Atlantic and Gulf of Mexico; South Atlantic Fishery Management Council; Public Meeting

AGENCY: National Marine Fisheries Service (NMFS), National Oceanic and Atmospheric Administration (NOAA), Commerce.

ACTION: Notice of a public meeting.

SUMMARY: The South Atlantic Fishery Management Council's Scientific and Statistical Committee will hold a meeting of its SSC to discuss the findings of its Socio-Economic sub-panel. See SUPPLEMENTARY INFORMATION.

DATES: The meeting will be held March 3, 2011, via conference call. See SUPPLEMENTARY INFORMATION.

ADDRESSES: The meeting will be held by conference call from 10 a.m. to 12 p.m., EST on Thursday, March 3, 2011. Listening stations are available at the South Atlantic Fishery Management Council, 4055 Faber Place Drive #201, North Charleston, SC 29405.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: Under the Magnuson-Stevens Reauthorized Act, the SSC is the body responsible for reviewing the Council's scientific materials. The SSC will discuss recommendations of the Council's Social and Economic Sciences sub-Panel and develop recommendations for Regulatory Amendment 9 to the Snapper-Grouper Regulatory FMP. The amendment addresses commercial trip limits alternatives for greater amberjack, vermilion snapper, black sea bass, and gag.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to the Council office (see ADDRESSES) at least 3 business days prior to the meeting.

Dated: January 12, 2011.
Tracey L. Thompson,
Acting Director, Office of Sustainable Fisheries, National Marine Fisheries Service.

[FR Doc. 2011-941 Filed 1-18-11; 8:45 am]

BILLING CODE 3510-22-P